DEPARTMENT OF THE TREASURY

United States Mint

Notification of American Buffalo 2008 Celebration Coin Program Price Increase.

SUMMARY: The United States Mint is adjusting prices for its American Buffalo 2008 Celebration Coin Program.

Pursuant to 31 U.S.C. 5112(q), and in accordance with 31 U.S.C. 9701(b)(2)(B), the United States Mint is changing the price of these coins to reflect the increase in value of the underlying precious metal content of the coins—the result of increases in the market price of gold.

Accordingly, effective March 7, 2008, the United States Mint will commence selling the American Buffalo 2008 Celebration Coin Program according to the following price schedule:

Description | Price
American Buffalo 2008 Celebration Coin Program | $1,118.88

FOR FURTHER INFORMATION CONTACT: Gloria C. Eskridge, Associate Director for Sales and Marketing; United States Mint; 801 Ninth Street, NW., Washington, DC 20220; or call 202-354-7500.

Dated: March 6, 2008.
Edmund C. Moy,
Director, United States Mint.

[FR Doc. E8-4908 Filed 3-11-08; 8:45 am]

BILLING CODE 4810-02-P